DEPARTMENT OF HOMELAND SECURITY

Coast Guard

[Docket No. USCG-2022-0254]

National Chemical Transportation Safety Advisory Committee; June 2022 Meetings

AGENCY: U.S. Coast Guard, Department of Homeland Security.

ACTION: Notice of Federal Advisory Committee meeting.

SUMMARY: The National Chemical Transportation Safety Advisory Committee (Committee) will meet to discuss matters relating to the safe and secure marine transportation of hazardous materials. The meetings will be open to the public via both a virtual platform and limited in-person seating on a first come first served basis.

DATES:

Meetings: The National Chemical Transportation Safety Advisory Committee subcommittee will meet on Wednesday, June 8, 2022, from 9 a.m. to 5 p.m. The full Committee will meet on Thursday, June 9, 2022, from 9 a.m. until 5 p.m. (Eastern Daylight Time). Please note these meetings may close early if the Committee has completed its business.

Comments and supporting documents: To ensure your comments are reviewed by Committee members before the meeting, submit your written comments no later than May 25, 2022.

ADDRESSES: The meeting will be held at 1525 Wilson Boulevard, Arlington, VA 22209.

Pre-registration Information: Pre-registration is required for in-person access to the meeting and for any attending by videoconference. In-person attendance to the meeting will be limited to the first 33 registrants, with priority for members of the Committee, subcommittees, and Coast Guard support staff. If you are not a member of the Committee, subcommittees, or a member of the Coast Guard involved with NCTSAC, you must request in-person attendance by contacting the individual listed in the FOR FURTHER INFORMATION CONTACT section of this notice. You will receive a response noting if you are able to attend in-person or if the in-person roster is full.

Attendees at the meeting will be required to follow COVID-19 safety guidelines promulgated by Centers for Disease Control and Prevention (CDC), which may include the need to wear masks. CDC guidance on COVID protocols can be found here: https://www.cdc.gov/coronavirus/2019-ncov/communication/guidance.html.

For information on facilities or services for individuals with disabilities or to request special assistance at the meeting, contact the individual listed in FOR FURTHER INFORMATION CONTACT section of this notice.

Instructions: You are free to submit comments at any time, including orally at the meeting as time permits, but, if you want Committee members to review your comment before the meeting, please submit your comments no later than May 25, 2022. The Committee is particularly interested in comments related to the issues in the “Agenda” section below. The Committee encourages you to submit comments through the Federal eRulemaking Portal at https://www.regulations.gov. If your material cannot be submitted using https://www.regulations.gov, call or email the individual in the FOR FURTHER INFORMATION CONTACT section of this document for alternate instructions. You must include the docket number [USCG-2022-0254]. Comments received will be posted without alteration at https://www.regulations.gov, including any personal information provided. You may wish to review the Privacy and Security notice available on homepage of https://regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Lieutenant Ethan T. Beard, Alternate Designated Federal Officer of the National Chemical Transportation Safety Advisory Committee, 2703 Martin Luther King Jr. Ave. SE, Stop 7509, Washington, DC 20593-7509, telephone 202-372-1419, fax 202-372-8382 or Ethan.T.Beard@uscg.mil.

SUPPLEMENTARY INFORMATION: Notice of this meeting is given in accordance with the Federal Advisory Committee Act, (5. U.S.C. Appendix). The National Chemical Transportation Safety Advisory Committee was established on December 4, 2018, by section 601 of the Frank LoBiondo Coast Guard Authorization Act of 2018 (Pub. L. 115-282, 132 Stat. 4192), and codified in 46 U.S.C. 15101. The Committee operates under the provisions of the Federal Advisory Committee Act (5 U.S.C. Appendix) and 46 U.S.C. 15109.

Agenda

Day 1

Wednesday, June 8, 2022

The day will be dedicated to subcommittee work:

The subcommittee will address Task Statement 21-01, Recommendations on Loading Limits of Gas Carriers and USCG Supplement to International Hazardous Zone Requirements. The task statement and other subcommittee information is available for viewing at https://homeport.uscg.mil/missions/federal-advisory-committees/national-chemical-transportation-safety-advisory-committee-(nctsac)/task-statements. The agenda for the discussion will include the following:

(1) Introduction and review subcommittee task statement.

(2) Work on assigned task mentioned above.

(3) Discuss and prepare any proposed recommendations for the full Committee. The full Committee will receive the recommendations on Day 2 of the meeting.

(4) Public comment period.

(5) Adjournment of meeting.

Day 2

Thursday, June 9, 2022

The agenda for the full Committee meeting is as follows:

(1) Call to order.

(2) Roll call, introduction, and swearing-in members; determination of quorum.

(3) Review of November 2, 2021, meeting minutes and status of task items.

(4) U.S. Coast Guard leadership remarks.

(5) Chairman and Designated Federal Officer's remarks.

(6) Committee will review, discuss, and formulate recommendations on the following items:

a. Task Statement 21-01: Recommendations on Loading Limits of Gas Carriers and USCG Supplement to International Hazardous Zone Requirements.

(7) Presentation of the following task statements for Committee discussion and vote:

a. Task Statement 22-01, Recommendations to Support Reductions to Emissions and Environmental Impacts Associated with Marine Transport of Chemicals, Liquefied Gases and LNG;

b. Task Statement 22-02, Recommendations on Industry Best Practices and Regulatory Updates Related to the Maritime Transportation of Lithium Batteries;

c. Task Statement 22-03, Recommendations on Testing Requirements for Anti-Flashback Burners for Vapor Control Systems.

(8) Subcommittee recommendation(s) discussion.

(9) Public comment period.

(10) Closing remarks/set next meeting date and location.

(11) Adjournment of meeting.

A copy of all meeting documentation will be available at: https://homeport.uscg.mil/missions/federal-advisory-committees/national-chemical-transportation-safety-advisory-committee-(nctsac)/committee-meetings no later than June 1, 2022. Alternatively, you may contact the individual noted in the FOR FURTHER INFORMATION CONTACT section above.

Public comments or questions will be taken throughout the meetings as the Committee discusses the issues and prior to deliberations and voting. There will be a public comment period at the end of meetings. Speakers are requested to limit their comments to 2 minutes. Please note that the public comment period will end following the last call for comments. Contact the individual listed in the FOR FURTHER INFORMATION CONTACT section above, to register as a speaker.

Dated: May 12, 2022.
Jeffrey G. Lantz,
Director of Commercial Regulations and Standards.

[FR Doc. 2022-10610 Filed 5-17-22; 8:45 am]

BILLING CODE 9110-04-P